DEPARTMENT OF ENERGY

Federal Energy Regulatory Commission

18 CFR Part 284

[Docket No. RM09-2-000]

Contract Reporting Requirements of Intrastate Natural Gas Companies

January 7, 2009.

AGENCY: Federal Energy Regulatory Commission, DOE.

ACTION: Notice of Inquiry: extension of comment deadline.

SUMMARY: On November 20, 2008, the Federal Energy Regulatory Commission issued a Notice of Inquiry to consider whether to revise its contract reporting requirements for those natural gas pipelines that fall under the Commission's jurisdiction pursuant to section 311 of the Natural Gas Policy Act of 1978 or section 1(c) of the Natural Gas Act (November 28, 2008, 73 FR 72395). The deadline for filing comments is being extended at the request of the Texas Pipeline Association.

Comment Date: Comments are due on or before February 13, 2009.

ADDRESSES: You may submit comments on the Notice of Inquiry, identified by Docket No. RM09-2-000, by one of the following methods:

• Agency Web site: http://www.ferc.gov. Follow instructions for submitting comments via the eFiling link found in the Comment Procedures Section of the preamble.

• Mail: Commenters unable to file comments electronically must mail or hand deliver an original and 14 copies of their comments to the Federal Energy Regulatory Commission, Secretary of the Commission, 888 First Street, NE., Washington, DC 20426.

FOR FURTHER INFORMATION CONTACT:

Vince Mareino (Legal Information), Office of the General Counsel, Federal Energy Regulatory Commission, 888 First Street, NE., Washington, DC 20426, (202) 502-6167, Vince.Mareino@ferc.gov.

Brian White (Technical Information), Office of Energy Markets Regulation, Federal Energy Regulatory Commission, 888 First Street, NE., Washington, DC 20426, (202) 502-8332, Brian.White@ferc.gov.

SUPPLEMENTARY INFORMATION:

Notice of Extension of Time

On December 19, 2008, the Texas Pipeline Association (TPA) filed a motion for an extension of time to file comments in response to the Commission's Notice of Inquiry issued November 20, 2008, in the above-referenced proceeding. Contract Reporting Requirements of Intrastate Natural Gas Companies, 125 FERC ¶ 61,190 (2008) (NOI). The motion states that because of the potential impact of the NOI on TPA and its members and because of the press of other business and the intervening holidays, additional time is needed to file responsive comments.

Upon consideration, notice is hereby given that an extension of time for filing comments on the Commission's NOI is granted to and including February 13, 2009, as requested by TPA.

Kimberly D. Bose,
Secretary.

[FR Doc. E9-394 Filed 1-14-09; 8:45 am]

BILLING CODE 6717-01-P